DEPARTMENT OF HOMELAND SECURITY

United States Immigration and Customs Enforcement

Agency Information Collection Activities: Revision of a Currently Approved Information Collection

ACTION: Revision of Currently Approved Information Collection; Form I-901, Fee Remittance for Certain F, J and M Non-immigrants; OMB No. 1653-0034.

SUMMARY: The Department of Homeland Security, U.S. Immigration and Customs Enforcement (USICE), has previously submitted the above referenced information collection request for review and clearance in accordance with the Paperwork Reduction Act of 1995. Certain fees related to this information collection have been changed. This document contains revisions to certain portions of the form that were previously published that are related to those fee changes.

Revision

• On Page 2 of the Instructions, Item 18B is revised as follows: Expedited Delivery: There will be an added shipping and handling fee of $35.00 for this option. Your receipt will be delivered in an expedited manner to the address listed in item numbers 4-8 on the Form I-901.

Dated: August 27, 2008.
Lee Shirkey,
Chief, Records Management Branch Chief, United States Immigration and Customs Enforcement, Department of Homeland Security.

[FR Doc. E8-20455 Filed 9-3-08; 8:45 am]

BILLING CODE 9111-28-P